DEPARTMENT OF ENERGY

Federal Energy Regulatory Commission

18 CFR Part 37, 161, 250, 284, and 358

[Docket No. RM01-10-000]

Standards of Conduct for Transmission Providers; Notice of Extension of Time

October 26, 2001.

AGENCY: Federal Energy Regulatory Commission, DOE.

ACTION: Notice of extension of time.

SUMMARY: On September 27, 2001, the Commission issued notice of proposed rulemaking addressing new standards of conduct for transmission providers (66 FR 50919, October 5, 2001). The date for filing comments is being extended at the request of the American Gas Association, the Edison Electric Institute and the Interstate Natural Gas Association of America..

DATES: Comments should be filed on or before December 20, 2001.

ADDRESSES: Federal Energy Regulatory Commission, 888 First Street, NE., Washington, DC 20426.

FOR FURTHER INFORMATION CONTACT: David P. Boergers, Secretary 888 First Street, NE., Washington, DC 20426, (202) 208-0400.

SUPPLEMENTARY INFORMATION: On October 24, 2001, the American Gas Association, the Edison Electric Institute, and the Interstate Natural Gas Association of America (collectively, Movants) filed a joint motion for an extension of time to file comments on the Notice of Proposed Rulemaking (NOPR) issued September 27, 2001, in the above-docketed proceeding. In their motion, Movants state that the proposed rule is broad in nature and has the potential to dramatically impact the business operations of electric and gas companies in the United States and that additional time is requested to effectively gather evidence on the costs and benefits of various proposals contained in the NOPR. The motion also states that the American Public Gas Association, the Independent Petroleum Association of America, the Natural Gas Supply Association, the Process Gas Consumers Group, the American Public Power Association, and the National Rural Electric Cooperative Association have been contacted by Movants and that none of the trade associations contacted objects to the request for additional time.¹

¹ The Natural Gas Supply Association agreed to an extension of time to file comments only through December 15, 2001.

Upon consideration, notice is hereby given that an extension of time for the filing of comments in response to the Commission's Notice of Proposed Rulemaking issued September 27, 2001, is granted to and including December 20, 2001.

David P. Boergers,
Secretary.

[FR Doc. 01-27674 Filed 11-2-01; 8:45 am]

BILLING CODE 6717-01-P